DEPARTMENT OF COMMERCE

Foreign-Trade Zones Board

Scope Clarification Request—Foreign-Trade Subzone 122K (Alumina Production) Sherwin Alumina Company—Gregory, TX

A request for clarification of scope has been submitted to the Foreign-Trade Zones Board (the Board) by Sherwin Alumina Company (Sherwin), operator of Foreign-Trade Subzone 122K. A grant of authority for Sherwin's subzone was issued on December 30, 1988, for the manufacture of alumina and aluminum hydrate. In its original application, Sherwin indicated that its foreign-sourced input would be bauxite, imported duty-free under subheading 2606.00 of the Harmonized Tariff Schedule of the United States (HTSUS), to be used in the production of alumina and aluminum hydrate.

Sherwin now seeks clarification as to whether its scope includes authority to further refine 24,500 metric tons of the bauxite into smaller particles of aluminum hydrate than is currently being produced. There will be no increase in imports of bauxite used in the refining process nor in total production of alumina at the Sherwin plant as a result of the new manufacturing activity.

Public comment is invited from interested parties. Submissions shall be addressed to the Board's Executive Secretary at the address listed below. The closing period for their receipt is September 29, 2006. A copy of the request is available for public inspection at the Office of the Executive Secretary, Foreign-Trade Zones Board, U.S. Department of Commerce, Room 1115, 1401 Constitution Ave., NW., Washington, DC 20230.

Dated: August 23, 2006.
Andrew McGilvray,
Acting Executive Secretary.

[FR Doc. E6-14476 Filed 8-29-06; 8:45 am]

BILLING CODE 3510-DS-P